DEPARTMENT OF COMMERCE

Foreign-Trade Zones Board

[B-31-2023]

Foreign-Trade Zone (FTZ) 147, Notification of Proposed Production Activity; PolyVisions Holdings, Inc.; (Plastic Resin Compounds); Manchester, Pennsylvania

PolyVisions Holdings, Inc. submitted a notification of proposed production activity to the FTZ Board (the Board) for its facility in Manchester, Pennsylvania, within FTZ 147. The notification conforming to the requirements of the Board's regulations (15 CFR 400.22) was received on April 28, 2023.

Pursuant to 15 CFR 400.14(b), FTZ production activity would be limited to the specific foreign-status material/component and specific finished product(s) described in the submitted notification (summarized below) and subsequently authorized by the Board. The benefits that may stem from conducting production activity under FTZ procedures are explained in the background section of the Board's website—accessible via www.trade.gov/ftz.

The proposed finished product is recycled polyester polyethylene terephthalate (PET) compound (duty rate is 6.5%).

The proposed foreign-status materials and components include recycled PET resin, recycled PET compound, and polymeric additive (duty rate ranges from 4.2% to 6.5%). The request indicates that the materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is June 14, 2023.

A copy of the notification will be available for public inspection in the “Online FTZ Information System” section of the Board's website.

For further information, contact Juanita Chen at juanita.chen@trade.gov.

Dated: May 1, 2023.
Elizabeth Whiteman,
Acting Executive Secretary.

[FR Doc. 2023-09567 Filed 5-4-23; 8:45 am]

BILLING CODE 3510-DS-P